FEDERAL MARITIME COMMISSION

Ocean Transportation Intermediary License; Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:.

License Number: 13231N.

Name: American Liner System Inc.

Address: 1333 Broadway, Suite 1222, New York, NY 11354.

Date Revoked: December 29, 2000.

Reason: Failed to maintain a valid bond.

License Number: 1284NF.

Name: Barnhart & Associates.

Address: 1910 Harriman Lane, Redondo Beach, CA 90278.

Date Revoked: December 1, 2000.

Reason: Surrendered license voluntarily.

License Number: 13284N.

Name: Blue Sky Blue Sea, Inc. d/b/a International Shipping Company.

Address: Cargo Bldg. 68, JFK International Airport, Jamaica, NY 11430.

Date Revoked: January 1, 2001.

Reason: Failed to maintain a valid bond.

License Number: 15164N.

Name: General Cargo International, Inc.

Address: 215 East Adams Avenue, #1, Huntington Beach, CA 92648.

Date Revoked: January 6, 2001.

Reason: Failed to maintain a valid bond.

License Number: 15461NF.

Name: I.M.D. Logistics Solutions, Inc. d/b/a IMD Container Line.

Address: 330 Primrose Road, Suite 410, Burlingame, CA 94010.

Date Revoked: December 8, 2000.

Reason: Failed to maintain valid bonds.

License Number: 4055F.

Name: International Cargo Services, Inc.

Address: 139 Mitchell Avenue, Suite #106, South San Francisco, CA 94080.

Date Revoked: December 31, 2000.

Reason: Failed to maintain a valid bond.

License Number: 3374F.

Name: International Express Cargo Services, Inc.

Address: 6918 NW 51st Street, Miami, FL 33166.

Date Revoked: January 7, 2001.

Reason: Failed to maintain a valid bond.

License Number: 4335N.

Name: International Services, Inc.

Address: 12000 Beacom Road, Columbus, OH 43074.

Date Revoked: December 1, 2000.

Reason: Failed to maintain a valid bond.

License Number: 18N.

Name: International Transportation Corp.

Address: 17 Battery Place, Suite 1120, New York, NY 10004.

Date Revoked: June 10, 1999.

Reason: Failed to maintain a valid bond.

License Number: 3861F.

Name: International Transportation Network.

Address: 452 Hudson Terrace, Englewood Cliffs, NJ 07632.

Date Revoked: January 4, 2001.

Reason: Failed to maintain a valid bond.

License Number: 13405N.

Name: M.A.P. Worldwide Carriers, Inc.

Address: 2303 Nance Street, Houston, TX 77020.

Date Revoked: December 21, 2000.

Reason: Failed to maintain a valid bond.

License Number: 6954N.

Name: Nimbus Services Inc.

Address: 4166 Santa Monica Blvd., Los Angeles, CA 90029.

Date Revoked: December 29, 2000.

Reason: Failed to maintain a valid bond.

License Number: 16729F.

Name: Sarah Worldwide Shipping, Inc.

Address: 6 Bear Trail, Fairview, NC 28730.

Date Revoked: December 22, 2000.

Reason: Failed to maintain a valid bond.

License Number: 3808F.

Name: Seabridge Express, Inc.

Address: 1010 So. 312th Street, Suite 333, Federal Way, WA 98003.

Date Revoked: December 30, 2000.

Reason: Failed to maintain a valid bond.

License Number: 4577N.

Name: Transtar Shipping, Inc.

Address: 405 Victory Avenue, Suite D, South San Francisco, CA 94080.

Date Revoked: January 1, 2001.

Reason: Failed to maintain a valid bond.

License Number: 834F and 834N.

Name: Wall Shipping, Co., Inc.

Address: P.O. Box 20022, Washington/Dulles International Airport, Washington, DC 20041.

Date Revoked: October 21, 2000 and December 7, 2000.

Reason: Failed to maintain a valid bond.

Sandra L. Kusumoto,
Director, Bureau of Consumer Complaints and Licensing.

[FR Doc. 01-3220 Filed 2-7-01; 8:45 am].

BILLING CODE 6730-01-P